FEDERAL MARITIME COMMISSION

Ocean Transportation Intermediary License Reissuances

The Commission gives notice that the following Ocean Transportation Intermediary licenses have been reissued pursuant to section 19 of the Shipping Act of 1984 (46 U.S.C. 40101).

License No.: 004306F.

Name: International Transport Services, Inc.

Address: 19987 Commerce Parkway, Cleveland, OH 44130.

Date Reissued: August 9, 2013.

License No.: 022827N.

Name: Stella Maris International Trading, Inc. dba OP Shipping.

Address: 1601 Sahlman Drive, Tampa, FL 33605.

Date Reissued: July 24, 2013.

License No.: 023062NF.

Name: A & M Ocean Machinery, Inc.

Address: 9725 Fontainebleau Blvd., Suite 103, Miami, FL 33172.

Date Reissued: July 4, 2013.

License No.: 024023N.

Name: OES Logistics, Inc.

Address: 10900 E. 183rd Street, #130, Cerritos, CA 90703.

Date Reissued: July 16, 2013.

James A. Nussbaumer,
Deputy Director, Bureau of Certification and Licensing.

[FR Doc. 2013-22811 Filed 9-18-13; 8:45 am]

BILLING CODE 6730-01-P